DEPARTMENT OF TRANSPORTATION

Federal Aviation Administration

14 CFR Part 39

[Docket No. FAA-2005-22402; Directorate Identifier 2005-NM-133-AD; Amendment 39-14411; AD 2005-25-18]

RIN 2120-AA64

Airworthiness Directives; Sabreliner Model NA-265, NA-265-20, NA-265-30, NA-265-40, NA-265-50, NA-265-60, NA-265-65, NA-265-70, and NA-265-80 Series Airplanes

AGENCY: Federal Aviation Administration (FAA), Department of Transportation (DOT).

ACTION: Final rule.

SUMMARY: The FAA is superseding an existing airworthiness directive (AD), which applies to certain Sabreliner Model NA-265-40, NA-265-50, NA-265-60, NA-265-70, and NA-265-80 series airplanes. That AD currently requires repetitive inspections for discrepancies in the front and rear spars of the wing in the area of the wing center section, and in the lugs on the rear spar and wing trailing edge panel rib, and corrective actions if necessary. This new AD expands the applicability of the existing AD and requires new repetitive inspections for fuel leaks of the front and rear spars of the wing, and for discrepancies in the front and rear spars of the wing in the area of the wing center section, and in the lugs on the rear spar and wing trailing edge panel rib. This AD also requires related investigative and corrective actions, if necessary. This AD results from reports of cracking in the upper and lower flanges of the front and rear spars of the wing near the wing center section, and in the lugs on the rear spar. We are issuing this AD to detect and correct cracking or other discrepancies in these areas, which could result in structural failure of the wing.

DATES: This AD becomes effective January 18, 2006.

The Director of the Federal Register approved the incorporation by reference of certain publications listed in the AD as of January 18, 2006.

ADDRESSES: You may examine the AD docket on the Internet at http://dms.dot.gov or in person at the Docket Management Facility, U.S. Department of Transportation, 400 Seventh Street SW., Nassif Building, room PL-401, Washington, DC.

Contact Sabreliner Corporation, 18118 Chesterfield Airport Road, Chesterfield, Missouri 63005-1121, for service information identified in this AD.

FOR FURTHER INFORMATION CONTACT: T.N. Baktha, Aerospace Engineer, Airframe Branch, ACE-118W, FAA, Wichita Aircraft Certification Office, 1801 Airport Road, room 100, Mid-Continent Airport, Wichita, Kansas 67209; telephone (316) 946-4155; fax (316) 946-4407.

SUPPLEMENTARY INFORMATION:

Examining the Docket

You may examine the airworthiness directive (AD) docket on the Internet at http://dms.dot.gov or in person at the Docket Management Facility office between 9 a.m. and 5 p.m., Monday through Friday, except Federal holidays. The Docket Management Facility office (telephone (800) 647-5227) is located on the plaza level of the Nassif Building at the street address stated in the ADDRESSES section.

Discussion

The FAA issued a notice of proposed rulemaking (NPRM) to amend 14 CFR part 39 to include an AD that supersedes AD 73-18-03, amendment 39-3201 (43 FR 19208, May 4, 1978). The existing AD applies to certain Rockwell International Model NA-265-40, NA-265-50, NA-265-60, NA-265-70, and NA-265-80 series airplanes. That NPRM was published in the Federal Register on September 14, 2005 (70 FR 54318). (A correction of that NPRM was published in the Federal Register on September 30, 2005 (70 FR 57222).) That NPRM proposed to expand the applicability of the existing AD and require new repetitive inspections for fuel leaks of the front and rear spars of the wing, and for discrepancies in the front and rear spars of the wing in the area of the wing center section, and in the lugs on the rear spar and wing trailing edge panel rib. That NPRM also proposed to require related investigative and corrective actions, if necessary.

Comments

We provided the public the opportunity to participate in the development of this AD. No comments have been received on the NPRM or on the determination of the cost to the public.

Clarification of Alternative Method of Compliance (AMOC) Paragraph

We have revised this action to clarify the appropriate procedure for notifying the principal inspector before using any approved AMOC on any airplane to which the AMOC applies.

Conclusion

We have carefully reviewed the available data and determined that air safety and the public interest require adopting the AD with the change described previously. We have determined that this change will neither increase the economic burden on any operator nor increase the scope of the AD.

Costs of Compliance

There are about 77 airplanes of the affected design in the worldwide fleet. This AD affects about 43 airplanes of U.S. registry.

The inspection specified in this AD takes about 12 work hours per airplane, per inspection cycle, at an average labor rate of $65 per work hour. Based on these figures, the estimated cost of the actions specified in this AD for U.S. operators is $33,540, or $780 per airplane, per inspection cycle.

Authority for This Rulemaking

Title 49 of the United States Code specifies the FAA's authority to issue rules on aviation safety. Subtitle I, section 106, describes the authority of the FAA Administrator. Subtitle VII, Aviation Programs, describes in more detail the scope of the Agency's authority.

We are issuing this rulemaking under the authority described in subtitle VII, part A, subpart III, section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We have determined that this AD will not have federalism implications under Executive Order 13132. This AD will not have a substantial direct effect on the States, on the relationship between the national government and the States, or on the distribution of power and responsibilities among the various levels of government.

For the reasons discussed above, I certify that this AD:

(1) Is not a “significant regulatory action” under Executive Order 12866;

(2) Is not a “significant rule” under DOT Regulatory Policies and Procedures (44 FR 11034, February 26, 1979); and

(3) Will not have a significant economic impact, positive or negative, on a substantial number of small entities under the criteria of the Regulatory Flexibility Act.

We prepared a regulatory evaluation of the estimated costs to comply with this AD and placed it in the AD docket. See the ADDRESSES section for a location to examine the regulatory evaluation.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The Federal Aviation Administration (FAA) amends § 39.13 by removing amendment 39-3201 (43 FR 19208, May 4, 1978) and by adding the following new airworthiness directive (AD):

2005-25-18 Sabreliner Corporation: Amendment 39-14411. Docket No. FAA-2005-22402; Directorate Identifier 2005-NM-133-AD.

Effective Date

(a) This AD becomes effective January 18, 2006.

Affected ADs

(b) This AD supersedes AD 73-18-03.

Applicability

(c) This AD applies to Sabreliner Model NA-265, NA-265-20, NA-265-30, NA-265-40, NA-265-50, NA-265-60, NA-265-65, NA-265-70, and NA-265-80 series airplanes; certificated in any category; as identified in Sabreliner NA-265 Service Bulletin 83-2, revised January 31, 2005.

Unsafe Condition

(d) This AD results from reports of cracking in the upper and lower flanges of the front and rear spars of the wing near the wing center section, and in the lugs on the rear spar. The FAA is issuing this AD to detect and correct cracking or other discrepancies in these areas, which could result in structural failure of the wing.

Compliance

(e) You are responsible for having the actions required by this AD performed within the compliance times specified, unless the actions have already been done.

Requirements of AD 73-18-03

Repetitive Inspections

(f) For the airplanes listed in Table 1 of this AD: On or before June 18, 1974, unless previously accomplished within 1 year, and at intervals not to exceed 2 years thereafter until the first inspection in accordance with paragraph (j) of this AD has been done, inspect the upper and lower flanges of the front and rear spars in the area of the wing center section, and the lugs on the rear spar and wing trailing edge panel rib, per the instructions of Sabreliner NA-265 Service Bulletin 73-11, revised June 1, 1978; or an equivalent inspection approved by the Manager, Wichita Aircraft Certification Office (ACO), FAA. Inspections done before the effective date of this AD in accordance with Sabreliner NA-265 Service Bulletin 73-11, dated June 15, 1973, are acceptable for compliance with this paragraph.

Table 1.—Airplanes Subject to Paragraphs (f), (g), and (h) of this AD
Model | Affected serial numbers
NA-265-40 | 282-1 and subsequent.
NA-265-50 | 287-1.
NA-265-60 | 306-1 through 306-139 inclusive.
NA-265-70 | 370-1 through 370-9 inclusive.
NA-265-80 | 380-1 through 380-61 inclusive.

Corrective Actions

(g) For the airplanes listed in Table 1 of this AD: Prior to further flight, if cracks, corrosion, or breaks in the surface finish are found, during any inspection in accordance with paragraph (f) of this AD, in the front or rear spars in the area of the wing center section, replace with like serviceable parts, or repair in a manner approved by the Manager, Wichita ACO.

(h) For the airplanes listed in Table 1 of this AD: Prior to further flight, if cracks are found, during any inspection in accordance with paragraph (f) of this AD, in the lugs on the rear spar and wing trailing edge rib, replace the cracked parts with like serviceable parts, or repair in a manner approved by the Manager, Wichita ACO.

New Requirements of This AD

Inspections/Repairs Accomplished Previously

(i) Inspections and repairs accomplished before the effective date of this AD in accordance with a method approved by the Chief, Aircraft Engineering Division, FAA Western Region, are acceptable for compliance with paragraphs (f), (g), and (h) of this AD, as applicable.

New Repetitive Inspections

(j) Within 90 days after the effective date of this AD, except as provided by paragraph (j)(1) of this AD: Perform a general visual inspection for fuel leaks; an inspection using a borescope to detect any break in the surface finish, corrosion, or cracking of the upper and lower flanges on the front and rear spars of the wing in the area of the wing center section; a general visual inspection to detect cracking of the lugs on the rear spar and wing trailing edge panel rib; and related investigative actions, as applicable; by doing all applicable actions in accordance with the instructions of Sabreliner NA-265 Service Bulletin 83-2, revised January 31, 2005. Repeat the inspection thereafter at intervals not to exceed 24 months.

(1) If the inspection required by paragraph (j) of this AD has been accomplished within 12 months before the effective date of this AD, the inspection required by paragraph (j) of this AD is not required until 24 months after the most recent inspection in accordance with the requirements of paragraph (j) of this AD.

(2) For airplanes subject to paragraph (f) of this AD: Accomplishing of the initial inspection required by paragraph (j) of this AD terminates the requirements of paragraph (f) of this AD.

Note 1: For the purposes of this AD, a general visual inspection is: “A visual examination of an interior or exterior area, installation, or assembly to detect obvious damage, failure, or irregularity. This level of inspection is made from within touching distance unless otherwise specified. A mirror may be necessary to ensure visual access to all surfaces in the inspection area. This level of inspection is made under normally available lighting conditions such as daylight, hangar lighting, flashlight, or droplight and may require removal or opening of access panels or doors. Stands, ladders, or platforms may be required to gain proximity to the area being checked.”

Corrective Actions

(k) If any fuel leak, break in the surface finish, corrosion, or cracking is found during any inspection required by paragraph (j) of this AD: Before further flight, replace the subject part with a new or serviceable part, or repair the subject part in accordance with a method approved by the Manager, Wichita ACO. Where Sabreliner NA-265 Service Bulletin 83-2, revised January 31, 2005, specifies contacting Sabreliner for an engineering analysis: Before further flight, repair in accordance with a method approved by the Manager, Wichita ACO. For a repair method to be approved by the Manager, Wichita ACO, as required by this paragraph, the Manager's approval letter must specifically refer to this AD.

Actions Accomplished Previously

(l) Inspections and corrective actions accomplished before the effective date of this AD in accordance with the original issue of Sabreliner NA-265 Service Bulletin 83-2, dated March 4, 1983; or Sabreliner NA-265 Service Bulletin 83-2, revised February 29, 1996; are acceptable for compliance with the corresponding actions required by paragraphs (j) and (k) of this AD.

No Reporting Requirement

(m) Although the service bulletins referenced in this AD specify to submit certain information to the manufacturer, this AD does not include that requirement.

Alternative Methods of Compliance (AMOCs)

(n)(1) The Manager, Wichita ACO, has the authority to approve AMOCs for this AD, if requested in accordance with the procedures found in 14 CFR 39.19.

(2) Before using any AMOC approved in accordance with 14 CFR 39.19 on any airplane to which the AMOC applies, notify the appropriate principal inspector in the FAA Flight Standards Certificate Holding District Office.

Material Incorporated by Reference

(o) You must use Sabreliner NA-265 Service Bulletin 73-11, revised June 1, 1978; or Sabreliner NA-265 Service Bulletin 83-2, revised January 31, 2005; to perform the actions that are required by this AD, unless the AD specifies otherwise. Sabreliner NA-265 Service Bulletin 73-11, revised June 1, 1978, contains the following effective pages:

Page No. | Date shown on page
1 | June 1, 1978.
2-14 | June 15, 1973.

The Director of the Federal Register approved the incorporation by reference of these documents in accordance with 5 U.S.C. 552(a) and 1 CFR part 51. Contact Sabreliner Corporation, 18118 Chesterfield Airport Road, Chesterfield, Missouri 63005-1121, for a copy of this service information. You may review copies at the Docket Management Facility, U.S. Department of Transportation, 400 Seventh Street SW., Room PL-401, Nassif Building, Washington, DC; on the Internet at http://dms.dot.gov; or at the National Archives and Records Administration (NARA). For information on the availability of this material at the NARA, call (202) 741-6030, or go to http://www.archives.gov/federal_register/code_of_federal_regulations/ibr_locations.html.

Issued in Renton, Washington, on December 2, 2005.
Kalene C. Yanamura,
Acting Manager, Transport Airplane Directorate, Aircraft Certification Service.

[FR Doc. 05-23904 Filed 12-13-05; 8:45 am]

BILLING CODE 4910-13-P